DEPARTMENT OF AGRICULTURE

Animal and Plant Health Inspection Service

7 CFR Part 319

[Docket No. 03-022-6]

RIN 0579-AB81

Mexican Hass Avocado Import Program

AGENCY: Animal and Plant Health Inspection Service, USDA.

ACTION: Final rule; correction.

SUMMARY: We are correcting an error in the rule portion of our final rule amending the fruits and vegetables regulations to expand the number of States in which fresh Hass avocado fruit grown in approved orchards in approved municipalities in Michoacan, Mexico, may be distributed and to allow the distribution of the avocados during all months of the year. The final rule was published in the Federal Register on November 30, 2004 (69 FR 69747-69774, Docket No. 03-022-5), and became effective on January 31, 2005.

EFFECTIVE DATE: January 31, 2005.

FOR FURTHER INFORMATION CONTACT: Ms. Karen Bedigian, Import Specialist, Phytosanitary Issues Management Team, PPQ, APHIS, 4700 River Road Unit 140, Riverdale, MD 20737-1236; (301) 734-6799.

SUPPLEMENTARY INFORMATION: In a final rule published in the Federal Register on November 30, 2004 (69 FR 69747-69774, Docket No. 03-022-5), and effective on January 31, 2005, we amended the fruits and vegetable regulations in 7 CFR part 319 to expand the number of States in which fresh Hass avocado fruit grown in approved orchards in approved municipalities in Michoacan, Mexico, may be distributed and to allow the distribution of the avocados during all months of the year.

In the rule portion of the final rule, it was our intention to amend paragraph (a) of § 319.56-2ff by revising paragraph (a)(2) and by removing paragraph (a)(3). These changes were discussed in the SUPPLEMENTARY INFORMATION section of the final rule, and the text of revised (a)(2) was presented in the rule portion of the final rule along with the other changes made to § 319.56-2ff. However, we inadvertently failed to include a specific amendatory instruction directing the revision of paragraph (a)(2) and the removal of paragraph (a)(3). This document corrects that error.

PART 319—[CORRECTED]

In FR Doc. 04-26336, published on November 30, 2004 (69 FR 69747-69774), make the following correction:

§ 319.56-2ff [Corrected]

1. On page 69773, in the amendments to 7 CFR part 319, in instruction 3 for § 319.56-2ff, an instruction h. is added to read as follows:

h. By revising paragraph (a)(2) to read as set forth below and removing paragraph (a)(3).

Done in Washington, DC, this 7th day of February 2005.
Elizabeth E. Gaston,
Acting Administrator, Animal and Plant Health Inspection Service.

[FR Doc. 05-2668 Filed 2-9-05; 8:45 am]

BILLING CODE 3410-34-P